DEPARTMENT OF ENERGY

Federal Energy Regulatory Commission

Combined Notice of Filings #1

August 9, 2005.

Take notice that the Commission received the following electric rate filings:

Docket Numbers: ER00-1928-001.

Applicants: Western New York Wind Corp.

Description: Western New York Wind Corp. submits its triennial updated market analysis and revisions to its market-based rate schedule.

Filed Date: 08/01/2005.

Accession Number: 20050804-0206.

Comment Date: 5 p.m. Eastern Time on Monday, August 22, 2005.

Docket Numbers: ER01-1121-001.

Applicants: SF Phosphates Limited Company, LLC

Description: SF Phosphates Limited Company, LLC submits triennial market power update.

Filed Date: 08/01/2005.

Accession Number: 20050801-5141.

Comment Date: 5 p.m. Eastern Time on Monday, August 22, 2005.

Docket Numbers: ER01-2692-003.

Applicants: Canastota Wind Power, LLC.

Description: Canastota Windpower LLC submits its triennial updated market analysis and revisions to its market-based rate schedule.

Filed Date: 08/01/2005.

Accession Number: 20050804-0204.

Comment Date: 5 p.m. Eastern Time on Monday, August 22, 2005.

Docket Numbers: ER01-390-003; ER99-3450-006; ER99-2769-007; ER00-2706-004; ER01-2760-003.

Applicants: Chandler Wind Partners, LLC; Foote Creek II, LLC; Foote Creek III, LLC; Foote Creek IV, LLC; Ridge Crest Wind Partners, LLC.

Description: Chandler Wind Partners, LLC and the above-referenced companies submitted triennial updated market analysis and revised market-based rate tariffs.

Filed Date: 08/01/2005

Accession Number: 20050803-0067.

Comment Date: 5 p.m. Eastern Time on Monday, August 22, 2005.

Docket Numbers: ER02-1600-003.

Applicants: Green Mountain Energy Company.

Description: Green Mountain Energy Company submits an updated market power analysis.

Filed Date: 08/01/2005.

Accession Number: 20050804-0210.

Comment Date: 5 p.m. Eastern Time on Monday, August 22, 2005.

Docket Numbers: ER02-1947-006.

Applicants: Occidental Power Services, Inc.

Description: Occidental Power Services Inc. submits an updated market power analysis, report of changes in status, and revised tariff sheet to its market-based rate tariff.

Filed Date: 08/01/2005.

Accession Number: 20050804-0220.

Comment Date: 5 p.m. Eastern Time on Monday, August 22, 2005.

Docket Numbers: ER03-1102-010.

Applicants: California Independent System Operator Corporation

Description: The California Independent System Operator Corporation submits its filing in compliance with FERC's order issued 7/1/05, 112 FERC ¶ 61,001 (2005).

Filed Date: 08/01/2005.

Accession Number: 20050804-0208.

Comment Date: 5 p.m. Eastern Time on Monday, August 22, 2005.

Docket Numbers: ER05-1122-001.

Applicants: FirstEnergy Nuclear Generation Corp.

Description: FirstEnergy Nuclear Generation Corp. submits revised Original Sheet No. 2 to its FERC Electric Tariff, Original Volume No. 1, amending its 6/17/2005 filing in Docket No. ER05-1122-000.

Filed Date: 08/01/2005.

Accession Number: 20050805-0158.

Comment Date: 5 p.m. Eastern Time on Tuesday, August 16, 2005.

Docket Numbers: ER05-1267-000.

Applicants: New England Power Pool.

Description: The New England Power Pool Participants Committee submits materials to expand NEPOOL membership to Elliot Health System; JPMorgan Chase, N.A.; Northeastern Power, LLC; Old Town Lumber Company, Inc.; and SP Energy, LLC and to terminate membership of New Jersey Machine Company.

Filed Date: 08/01/2005.

Accession Number: 20050803-0065.

Comment Date: 5 p.m. Eastern Time on Monday, August 22, 2005.

Docket Numbers: ER05-1268-000.

Applicants: PJM Interconnection L.L.C.

Description: PJM Interconnection, L.L.C. submits an executed interconnection service agreement with the City of Rochelle, Illinois and Commonwealth Edison Company & a notice of cancellation of an interim interconnection service agreement that has been superseded.

Filed Date: 08/01/2005.

Accession Number: 20050803-0066.

Comment Date: 5 p.m. Eastern Time on Monday, August 22, 2005.

Docket Numbers: ER05-1269-000.

Applicants: United American Energy Corp.

Description: Covanta Ref-Fuel Corp. formerly known as United American Energy Corp., submits a Notice of Termination of their FERC Electric Rate Schedule No. 1 the rate schedule pursuant to which UAE was authorized to engage in wholesale sales of energy, capacity and ancillary services at market-based rates.

Filed Date: 08/01/2005.

Accession Number: 20050803-0058.

Comment Date: 5 p.m. Eastern Time on Monday, August 22, 2005.

Docket Numbers: ER05-1276-000.

Applicants: Alabama Power Company.

Description: Southern Company Services, Inc., on behalf of Alabama Power Company, submits Revision 10 to Rate Schedule MUN-1 of Alabama Power Company's FERC Electric Tariff, Original Volume No. 1.

Filed Date: 08/01/2005.

Accession Number: 20050803-0076.

Comment Date: 5 p.m. Eastern Time on Monday, August 22, 2005.

Docket Numbers: ER05-1282-000.

Applicants: Storm Lake Power Partners I, LLC.

Description: Storm Lake Power Partners I, LLC submits revisions to its market-based rate schedule.

Filed Date: 08/01/2005.

Accession Number: 20050803-0059.

Comment Date: 5 p.m. Eastern Time on Monday, August 22, 2005.

Docket Numbers: ER05-428-004.

Applicants: New York Independent System Operator, Inc.

Description: New York Independent System Operator, Inc. submits a filing concerning its 2005 Load and Capacity Data Report , commonly referred to as the Gold Book.

Filed Date: 08/01/2005.

Accession Number: 20050801-5130.

Comment Date: 5 p.m. Eastern Time on Monday, August 22, 2005.

Docket Numbers: ER93-3-005.

Applicants: The United Illuminating Company.

Description: The United Illuminating Company submits an updated market power analysis and revisions to market-based rate tariff.

Filed Date: 08/01/2005.

Accession Number: 20050804-0219.

Comment Date: 5 p.m. Eastern Time on Monday, August 22, 2005.

Docket Numbers: ER95-362-021.

Applicants: Stand Energy Corporation.

Description: Stand Energy Corporation submits updated market analysis pursuant to the Commission's order issued 5/31/05 in 3E Technologies, Inc., et al., 111 FERC ¶ 61,295 (2005).

Filed Date: 08/01/2005.

Accession Number: 20050805-0164.

Comment Date: 5 p.m. Eastern Time on Monday, August 22, 2005.

Docket Numbers: ER95-892-060; ER96-2652-055.

Applicants: CL Power Sales One, L.L.C.; CL Power Sales Two, L.L.C.; CL Power Sales Seven, L.L.C.; CL Power Sales Eight, L.L.C.; CL Power Sales Ten, L.L.C.

Description: The above-referenced partially-owned affiliates of Edison Mission Energy submit a notice of change in status.

Filed Date: 08/01/2005.

Accession Number: 20050805-0165.

Comment Date: 5 p.m. Eastern Time on Monday, August 22, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlinSupport@ferc.gov. or call (866) 208-3676 (toll free). For TTY, call (202) 502-8659.

Linda Mitry,
Deputy Secretary.

[FR Doc. E5-4433 Filed 8-15-05; 8:45 am]

BILLING CODE 6717-01-P